DEPARTMENT OF ENERGY

Federal Energy Regulatory Commission

[Docket Nos. CP13-73-000; CP13-74-000]

Sierrita Gas Pipeline LLC; Notice of Availability of the Final Environmental Impact Statement for the Proposed Sierrita Pipeline Project

The staff of the Federal Energy Regulatory Commission (FERC or Commission) has prepared a final environmental impact statement (EIS) for the Sierrita Pipeline Project, proposed by Sierrita Gas Pipeline LLC (Sierrita) in the above-referenced dockets. Sierrita requests authorization to link El Paso Natural Gas Company's existing South Mainline System near Tucson to an interconnect with the Sásabe-Guaymas Pipeline at the U.S.-Mexico border near the town of Sasabe, Arizona, that would provide up to 200,846 dekatherms per day of natural gas to markets in Mexico.

The final EIS assesses the potential environmental effects of the construction and operation of the Sierrita Pipeline Project in accordance with the requirements of the National Environmental Policy Act (NEPA). The FERC staff concludes that approval of the proposed project, with the mitigation measures recommended in the EIS, would have some adverse environmental impact; however, most of these impacts would be reduced to less-than-significant levels.

The U.S. Fish and Wildlife Service (FWS)—Arizona Ecological Services Office; the FWS—Buenos Aires National Wildlife Refuge; the Arizona Game and Fish Department; and the U.S. Customs and Border Protection participated as cooperating agencies in the preparation of the EIS. Cooperating agencies have jurisdiction by law or special expertise with respect to resources potentially affected by the proposal and participate in the NEPA analysis. Although the cooperating agencies provided input to the conclusions and recommendations presented in the final EIS, the agencies will present their own conclusions and recommendations in their respective Records of Decision for the project.

The final EIS addresses the potential environmental effects of the construction and operation of the following project facilities:

• 60.9 miles of 36-inch-diameter natural gas pipeline in Pima County, Arizona;

• two meter stations;

• two pig launchers and two pig receivers ¹; and

¹ A pig is an internal tool that can be used to clean and dry a pipeline and/or to inspect it for damage or corrosion.

• six mainline valves.

The FERC staff mailed copies of the EIS to federal, state, and local government representatives and agencies; elected officials; environmental and public interest groups; Native American tribes; potentially affected landowners and other interested individuals and groups; newspapers and libraries in the project area; and parties to this proceeding. Paper copy versions of the EIS were mailed to those specifically requesting them; all others received a CD version. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the project is available from the Commission's Office of External Affairs, at (866) 208-FERC, or on the FERC Web site (www.ferc.gov) using the eLibrary link. Click on the eLibrary link, click on “General Search,” and enter the docket number excluding the last three digits in the Docket Number field (i.e., CP13-73 or CP13-74). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: March 28, 2014.
Kimberly D. Bose,
Secretary.

[FR Doc. 2014-07494 Filed 4-3-14; 8:45 am]

BILLING CODE 6717-01-P